DEPARTMENT OF AGRICULTURE

Animal and Plant Health Inspection Service

Submission for OMB Review; Comment Request

April 21, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 26, 2016 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Wooden Handicrafts from China.

Omb Control Number: 0579-0357.

Summary of Collection: Under the Plant Protection Act (7 U.S.C. 7701 et seq.), the Secretary of Agriculture is authorized to carry out operations or measures to detect, eradicate, suppress, control, prevent, or retard the spread of plant pests new to the United States or not known to be widely distributed throughout the United States. The regulations in “Subpart-Logs, Lumber, and Other Unmanufactured Wood Articles” (7 CFR 319.40-1 through 319.40-11, referred to as the regulations) govern the importation of various logs, lumber, and other unmanufactured wood products in the United States. APHIS' regulations provide for the importation of wooden handicrafts from China under certain conditions. Trade in these handicrafts has resumed while continuing to protect the United States against the introduction of plant pests.

Need and Use of the Information: APHIS uses the following information activities to allow for trade in Chinese wooden handicrafts while continuing to protect the United States: Merchandise tags, a fumigation certification, and an application for permit to import timber or timber products. Failure to collect this information would cause foreign countries to refuse any shipments from the United States that contained wooden handcrafts, a development that could cause a significant disruption in trade with foreign countries and result in serious economic consequences not only to U.S. exporters, but to many U.S. industries that export products to foreign countries.

Description of Respondents: Business or other for-profit.

Number of Respondents: 361.

Frequency of Responses: Reporting: On occasion.

Total Burden Hours: 5,271.

Ruth Brown,
Departmental Information Collection Clearance Officer.

[FR Doc. 2016-09743 Filed 4-25-16; 8:45 am]

BILLING CODE 3410-34-P